DEPARTMENT OF EDUCATION

Institute of Education Sciences; Overview Information; Education Research and Special Education Research Grant Programs; Notice Inviting Applications for New Awards for Fiscal Year (FY) 2009

Correction

In notice document 08-911 beginning on page 11796 in the issue of Monday, March 3, 2008, make the following correction:

On page 11500, the table is corrected to appear as follows:

[FR Doc. C8-911 Filed 3-18-08; 8:45 am]

BILLING CODE 1505-01-D

SECURITIES AND EXCHANGE COMMISSION

Proposed Collection; Comment Request

Correction

In notice document E8-3665 appearing on page 10501 in the issue of Wednesday, February 27, 2008, make the following correction:

In the seventh line, “1-2 Rule 17a-2;” should read “Rule 17a-2;”.

[FR Doc. Z8-3665 Filed 3-18-08; 8:45 am]

BILLING CODE 1505-01-D

SECURITIES AND EXCHANGE COMMISSION

[Release No. 34-57153; File No. SR-ISE-2008-04]

Self-Regulatory Organizations; International Securities Exchange, LLC; Notice of Filing and Immediate Effectiveness of Proposed Rule Change, as Modified by Amendment No. 1 Thereto, Relating to Fee Waiver

Correction

In notice document E8-1011 beginning on page 4035 in the issue of Wednesday, January, 23, 2008, make the following correction:

On page 4036 in the second column, under the heading Paper Comments, in the first paragraph, in the 42nd line “February 12, 2008” should read “February 13, 2008”.

[FR Doc. Z8-1011 Filed 3-18-08; 8:45 am]

BILLING CODE 1505-01-D

SECURITIES AND EXCHANGE COMMISSION

[Release No. 34-57336; File No. SR-Amex-2007-36]

Self-Regulatory Organizations; American Stock Exchange LLC; Order Approving a Proposed Rule Change, as modified by Amendment No. 1, to Eliminate a Volume Add-on to Amex Options Specialist Financial Requirements

February 14, 2008.

Correction

In notice document E8-3254 appearing on page 9842 in the issue of Friday, February 22, 2008 the heading is corrected to include the date.

[FR Doc. Z8-3254 Filed 3-18-08; 8:45 am]

BILLING CODE 1505-01-D